FEDERAL DEPOSIT INSURANCE CORPORATION

Sunshine Act; Notice of Change in Subject Matter of Agency Meeting

Pursuant to the provisions of subsection (e)(2) of the “Government in the Sunshine Act” (5 U.S.C. 552b(e)(2)), notice is hereby given that at its open meeting held at 2:30 p.m. on Monday, December 5, 2005, the Corporation's Board of Directors determined, on motion of Director John C. Dugan (Director, Comptroller of the Currency), seconded by Director Thomas J. Curry (Appointive), concurred in by Director John M. Reich (Director, Office of Thrift Supervision) and Acting Chairman Martin J. Gruenberg, that Corporation business required the addition to the agenda for consideration at the meeting, on less than seven days' notice to the public, of a personnel matter.

The Board further determined, by the same majority vote, that no earlier notice of the change in the subject matter of the meeting was practicable.

Dated: December 7, 2005.
Federal Deposit Insurance Corporation.
Robert E. Feldman
Executive Secretary.

[FR Doc. E5-7208 Filed 12-9-05; 8:45 am]

BILLING CODE 6714-01-P